DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Hawaiian Monk Seal: Public Knowledge and Opinion Survey.

OMB Control Number: None.

Form Number(s): NA.

Type of Request: Regular submission.

Number of Respondents: 500.

Average Hours per Response: 20 minutes.

Burden Hours: 167.

Needs and Uses: The purpose of this information-gathering activity is to gain a better understanding of public knowledge, attitudes, beliefs, values, and behaviors regarding the endangered Hawaiian monk seal. The information gained will be used to develop management strategies and an outreach and education plan intended to reduce human-seal interactions. Members of the public targeted for this survey will include people likely to encounter Hawaiian monk seals in the wild, including but not limited to: Fishers, surfers, beach goers, divers, operators and patrons of commercial water sports tours, and hotel managers operating in areas of high monk seal activity. The Hawaiian monk seal is listed as endangered under the Endangered Species Act and is also protected under the Marine Mammal Protection Act and Hawaii State law.

Affected Public: Business or other for-profit organizations; individuals or households.

Frequency: One time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 8, 2010.
Gwellnar Banks,
Management Analyst, Office of the Chief Information Officer.

[FR Doc. 2010-14037 Filed 6-10-10; 8:45 am]

BILLING CODE 3510-22-P